DEPARTMENT OF HOMELAND SECURITY

Federal Emergency Management Agency

[Docket ID FEMA-2023-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of November 30, 2023, has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Deputy Assistant Administrator for Risk Management, Federal Emergency Management Agency, Department of Homeland Security.

Community | Community map repository address
Monterey County, California and Incorporated Areas
Docket No.: FEMA-B-2229
City of Gonzales | Public Works Department, 147 4th Street, Gonzales, CA 93926.
City of Salinas | Public Works Department, Development Engineering Division, 200 Lincoln Avenue, Salinas, CA 93901.
City of Soledad | Public Works Department, 248 Main Street, Soledad, CA 93960.
Unincorporated Areas of Monterey County | Monterey County Government Center, Public Works, Facilities, and Parks Department, 2nd Floor, 1441 Schilling Place, Salinas, CA 93901.
Weld County, Colorado and Incorporated Areas
Docket No.: FEMA-B-2101
City of Evans | City Hall, 1100 37th Street, Evans, CO 80620.
City of Fort Lupton | City Hall, 130 South McKinley Avenue, Fort Lupton, CO 80621.
City of Greeley | City Center East, 1000 10th Street, Greeley, CO 80631.
Town of Firestone | Town Hall, 9950 Park Avenue, Firestone, CO 80504.
Town of Frederick | Town Hall, 401 Locust Street, Frederick, CO 80530.
Town of Kersey | Town Hall, 446 1st Street, Kersey, CO 80644.
Town of La Salle | Town Hall, 128 North 2nd Street, La Salle, CO 80645.
Town of Mead | Town Hall, 441 3rd Street, Mead, CO 80542.
Town of Milliken | Town Hall, 1101 Broad Street, Milliken, CO 80543.
Town of Platteville | Town Hall, 400 Grand Avenue, Platteville, CO 80651.
Town of Windsor | Town Hall, 301 Walnut Street, Windsor, CO 80550.
Unincorporated Areas of Weld County | Weld County Administrative Building, 1150 O Street, Greeley, CO 80631.
Pettis County, Missouri and Incorporated Areas
Docket No.: FEMA-B-2031 and FEMA-B-2186
City of Houstonia | City Hall, 121 North Walnut Street, Houstonia, MO 65333.
City of Sedalia | City Hall, 200 South Osage Avenue, Sedalia, MO 65301.
Unincorporated Areas of Pettis County | Pettis County Courthouse, 415 South Ohio Avenue, Suite 212, Sedalia, MO 65301.
Logan County, Ohio and Incorporated Areas
Docket No.: FEMA-B-1436
City of Bellefontaine | Engineering Department, 135 North Detroit Street, Bellefontaine, OH 43311.
Unincorporated Areas of Logan County | Logan County Office Building, 100 South Madriver Street, Bellefontaine, OH 43311.
Village of Belle Center | Belle Center Village Office, 104 West Buckeye Street, Belle Center, OH 43310.
Village of DeGraff | DeGraff City Building, 107 South Main Street, DeGraff, OH 43318.
Village of Lakeview | Lakeview Municipal Building, 126 North Main Street, Lakeview, OH 43331.
Village of Quincy | Village Hall, 115 North Miami Street, Quincy, OH 43343.
Village of Russells Point | Logan County Office Building, 100 South Madriver Street, Bellefontaine, OH 43311.
Village of Valley Hi | Valley Hi Administrative Office, 325 North Main Street, Bellefontaine, OH 43311.
Village of West Liberty | Town Hall, 201 North Detroit Street, West Liberty, OH 43357.
Village of Zanesfield | Village of Zanesfield, 2851 Sandusky Street, Zanesfield OH 43360.
Weber County, Utah and Incorporated Areas
Docket No.: FEMA-B-2245
City of Farr West City | City Hall, 1896 North 1800 West, Farr West City, UT 84404.
City of Harrisville | City Hall, 363 West Independence Boulevard, Harrisville, UT 84404.
City of Marriott-Slaterville | City Hall, 1570 West 400 North, Marriott-Slaterville, UT 84404.
City of North Ogden | City Hall, 505 East 2600 North, North Ogden, UT 84414.
City of Ogden | City Hall, 2549 Washington Boulevard, Ogden, UT 84401.
City of Plain City | City Hall, 4160 West 2200 North, Plain City, UT 84404.
City of Riverdale | City Hall, 4600 South Weber River Drive, Riverdale, UT 84405.
City of South Ogden | City Hall, 3950 South Adams Avenue, South Ogden, UT 84403.
City of West Haven | City Hall, 4150 South 3900 West, West Haven, UT 84401.
Unincorporated Areas of Weber County | Weber County Government Building, 2380 Washington Boulevard, Ogden, UT 84401.

[FR Doc. 2023-15876 Filed 7-26-23; 8:45 am]

BILLING CODE 9110-12-P